ENVIRONMENTAL PROTECTION AGENCY

[OPP-42077A; FRL-6747-2]

Delaware State Plan for Certification of Applicators of Restricted Use Pesticides; Notice of Approval

AGENCY: Environmental Protection Agency (EPA).

ACTION: Notice of approval.

SUMMARY: In the Federal Register of May 26, 2000 (65 FR 34178) (FRL-6488-6), EPA issued a notice of intent to approve an amended Delaware Plan for the certification of applicators of restricted use pesticides. In this notice EPA solicited comments from the public on the proposed action to approve the amended Delaware Plan. The amended Certification Plan Delaware submitted to EPA contained several statutory, regulatory, and programmatic changes to its current Certification Plan. The proposed amendments establish new requirements for the certification and recertification of pesticide applicators, requires training for registration of non-certified employees, adopts EPA's requirements for direct supervision, adds new commercial subcategories, and establishes the payment of fees for commercial applicators, issuance of business licenses, and dealer permits. No comments were received and EPA hereby approves the amended Delaware Plan.

ADDRESSES: The amended Delaware Certification Plan can be reviewed at the locations listed under Unit I.B. of the SUPPLEMENTARY INFORMATION.

FOR FURTHER INFORMATION CONTACT: Magda Rodriguez-Hunt, Pesticides/Asbestos Programs and Enforcement Branch (3WC32), Environmental Protection Agency, Region III, 1650 Arch St., Philadelphia, PA 19103; telephone number: 215-814-2128; fax number: 215-814-3113; e-mail address: rodriguez-hunt.magda.@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of the Amended State Plan, Other Related Documents, and Additional Information?

To obtain copies of the amended Delaware Certification Plan, other related documents, or additional information contact:

1. Magda Rodriguez-Hunt at the address listed under FOR FURTHER INFORMATION CONTACT.

2. Larry Towle, Delaware Department of Agriculture, Pesticides Compliance, 2320 Dupont Highway, Dover, DE 19901; telephone number: 302-739-4811; e-mail address: larry@smtp.dda.state.de.us.

3. John MacDonald, Field and External Affairs Division (7506C), Office of Pesticide Programs, Environmental Protection Agency, 1200 Pennsylvania Ave., NW.; telephone number: 703-305-7370; e-mail address: macdonald.john@epa.gov.

II. What Action is the Agency Taking?

EPA is approving the amended Delaware Certification Plan. This approval is based upon the EPA review of the Delaware Plan and finding it in compliance with FIFRA and 40 CFR part 171. Further, there were no public comments submitted to the earlier Federal Register Notice soliciting comments. The amended Delaware Certification Plan is therefore approved.

List of Subjects

Environmental protection.

Dated: January 2, 2001,
Bradley Campbell,
Regional Administrator, Region III.

[FR Doc. 01-1350 Filed 1-18-01 8:45 am]

BILLING CODE 6560-50-S